NATIONAL AERONAUTICS AND SPACE ADMINISTRATION

[Notice (01-148)]

Notice of Prospective Patent License

AGENCY: National Aeronautics and Space Administration.

ACTION: Notice of Prospective Patent License.

SUMMARY: NASA hereby gives notice that Digital Interface Systems, Inc., 241 Federal Plaza West, Suite 204, Youngstown, Ohio 44503, has applied for an exclusive license to practice the invention described and claimed in U.S. Patent No. 5,905,568, entitled “Stereo Imaging Velocimetry,” which is assigned to the United States of America as represented by the Administrator of the National Aeronautics and Space Administration. Written objections to the prospective grant of a license should be sent to Glenn Research Center.

DATES: Responses to this notice must be received by December 10, 2001.

FOR FURTHER INFORMATION CONTACT: Kent N. Stone, Patent Attorney, NASA Glenn Research Center, 21000 Brookpark Road, Cleveland, OH 44135, telephone (216) 433-8855.

Dated: November 14, 2001.
Edward A. Frankle,
General Counsel.

[FR Doc. 01-29212 Filed 11-21-01; 8:45 am]

BILLING CODE 7510-01-P